CONSUMER PRODUCT SAFETY COMMISSION

Sunshine Act Meetings

Time and Date: Thursday, July 23, 2009, 2 p.m.

Place: Room 410, Bethesda Towers, 4330 East-West Highway, Bethesda, Maryland.

Status: Closed to the public.

Matter to be Considered:

Compliance Status Report

The staff will brief the Commission on various compliance matters.

For a recorded message containing the latest agenda information, call (301) 504-7948.

FOR FURTHER INFORMATION CONTACT: Todd A. Stevenson, Office of the Secretary, U.S. Consumer Product Safety Commission, 4330 East West Highway, Bethesda, MD 20814, (301) 504-7923.

Dated: July 14, 2009.
Todd A. Stevenson,
Secretary.

[FR Doc. E9-17258 Filed 7-21-09; 8:45 am]

BILLING CODE 6355-01-M